DEPARTMENT OF ENERGY

Federal Energy Regulatory Commission

[Docket No. ER15-1429-000]

Emera Maine; Notice of Filing

Take notice that on April 3, 2015, Emera Maine tendered for filing workpapers in support of a transmission cost of service formula rate that was filed in the above docket on April 1, 2015. A June 1, 2015 effective date is requested for the transmission cost of service formula rate, which was noticed on April 1, 2015.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Comment Date: 5:00 p.m. Eastern Time on April 22, 2015.

Dated: April 15, 2015.
Nathaniel J. Davis, Sr.,
Deputy Secretary.

[FR Doc. 2015-09179 Filed 4-20-15; 8:45 am]

BILLING CODE 6717-01-P